DEPARTMENT OF TRANSPORTATION

National Highway Traffic Safety Administration

49 CFR Part 541

[Docket No. NHTSA 2009-0085]

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 2007 including theft rates for existing passenger motor vehicle lines manufactured in model year (MY) 2007. The preliminary theft data indicate that the vehicle theft rate for CY/MY 2007 vehicles (1.86 thefts per thousand vehicles) decreased by 10.6 percent from the theft rate for CY/MY 2006 vehicles (2.08 thefts per thousand vehicles).

Publication of these data fulfills NHTSA's statutory obligation to periodically obtain accurate and timely theft data, and publish the information for review and comment.

DATES: Comments must be submitted on or before August 10, 2009.

ADDRESSES: You may submit comments identified by Docket No. NHTSA-2009-0085 by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251.

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketsInfo.dot.gov.

Docket: For access to the docket to read background documents or comments received, go to http://www.regulations.gov or the street address listed above. Follow the online instructions for accessing the dockets.

FOR FURTHER INFORMATION CONTACT: Ms. Deborah Mazyck, Office of International Policy, Fuel Economy and Consumer Programs, NHTSA, 1200 New Jersey Avenue, SE., Washington, DC 20590. Ms. Mazyck's telephone number is (202) 366-0846. Her fax number is (202) 493-2990.

SUPPLEMENTARY INFORMATION: NHTSA administers a program for reducing motor vehicle theft. The central feature of this program is the Federal Motor Vehicle Theft Prevention Standard, 49 CFR part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the § 33104(b)(4) mandate, this document reports the preliminary theft data for CY 2007 the most recent calendar year for which data are available.

In calculating the 2007 theft rates, NHTSA followed the same procedures it has used since publication of the 1983/1984 theft rate data (50 FR 46669, November 12, 1985). The 2007 theft rate for each vehicle line was calculated by dividing the number of reported thefts of MY 2007 vehicles of that line stolen during calendar year 2007 by the total number of vehicles in that line manufactured for MY 2007, as reported to the Environmental Protection Agency (EPA). As in all previous reports, NHTSA's data were based on information provided to NHTSA by the National Crime Information Center (NCIC) of the Federal Bureau of Investigation. The NCIC is a government system that receives vehicle theft information from approximately 23,000 criminal justice agencies and other law enforcement authorities throughout the United States. The NCIC data also include reported thefts of self-insured and uninsured vehicles, not all of which are reported to other data sources.

The preliminary 2007 theft data show a decrease in the vehicle theft rate when compared to the theft rate experienced in CY/MY 2006 (For 2006 theft data, see 73 FR 60633, October 14, 2008). The preliminary theft rate for MY 2007 passenger vehicles stolen in calendar year 2007 decreased to 1.86 thefts per thousand vehicles produced, a decrease of 10.6 percent from the rate of 2.08 thefts per thousand vehicles experienced by MY 2006 vehicles in CY 2006. For MY 2007 vehicles, out of a total of 204 vehicle lines, 15 lines had a theft rate higher than 3.5826 per thousand vehicles, the established median theft rate for MYs 1990/1991 (See 59 FR 12400, March 16, 1994). Of the 15 vehicle lines with a theft rate higher than 3.5826, 13 are passenger car lines, two are multipurpose passenger vehicle lines, and none are light-duty truck lines.

The agency believes that the theft rate reduction could be the result of several factors including the increased use of standard antitheft devices (i.e., immobilizers), vehicle parts marking, increased and improved prosecution efforts by law enforcement organizations and increased public awareness measures which may have contributed to the overall reduction in vehicle thefts. The preliminary MY 2007 theft rate reduction is consistent with the general decreasing trend of theft rates over the past 15 years as indicated by Figure 1.

In Table I, NHTSA has tentatively ranked each of the MY 2007 vehicle lines in descending order of theft rate. Public comment is sought on the accuracy of the data, including the data for the production volumes of individual vehicle lines.

Comments must not exceed 15 pages in length (49 CFR 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://DocketsInfo.dot.gov.

Authority: 49 U.S.C. 33101, 33102 and 33104; delegation of authority at 49 CFR 1.50.

Preliminary Report of Theft Rates for Model Year 2007 Passenger Motor Vehicles Stolen in Calendar Year 2007
| Manufacturer | Make/model (line) | Thefts 2007 | Production (Mfr's) 2007 | 2007 Theft rate (per 1,000 vehicles produced)
1 | CHRYSLER | DODGE MAGNUM | 344 | 28059 | 12.2599
2 | CHRYSLER | DODGE CHARGER | 1148 | 120636 | 9.5162
3 | GENERAL MOTORS | CHEVROLET MONTE CARLO | 174 | 21689 | 8.0225
4 | GENERAL MOTORS | PONTIAC GRAND PRIX | 534 | 77689 | 6.8736
5 | CHRYSLER | 300 | 715 | 121529 | 5.8834
6 | MITSUBISHI | LANCER | 12 | 2355 | 5.0955
7 | ROLLS ROYCE | PHANTOM | 2 | 398 | 5.0251
8 | MERCEDES-BENZ | 215 (CL-CLASS) | 43 | 9296 | 4.6256
9 | FORD MOTOR CO | TAURUS | 510 | 114616 | 4.4496
10 | CHRYSLER | SEBRING | 338 | 78059 | 4.3301
11 | CHRYSLER | PT CRUISER | 443 | 104546 | 4.2374
12 | SUZUKI | FORENZA | 133 | 34236 | 3.8848
13 | GENERAL MOTORS | PONTIAC G6 | 629 | 164306 | 3.8282
14 | GENERAL MOTORS | CHEVROLET MALIBU | 487 | 127718 | 3.8131
15 | MITSUBISHI | GALANT | 103 | 27141 | 3.7950
16 | MAZDA | 6 | 201 | 56178 | 3.5779
17 | VOLKSWAGEN | AUDI RS4 | 5 | 1475 | 3.3898
18 | CHRYSLER | PACIFICA | 197 | 60392 | 3.2620
19 | GENERAL MOTORS | CHEVROLET COBALT | 703 | 215663 | 3.2597
20 | FORD MOTOR CO | MUSTANG | 518 | 159345 | 3.2508
21 | FORD MOTOR CO | LINCOLN TOWN CAR | 114 | 35281 | 3.2312
22 | CHRYSLER | DODGE CALIBER | 560 | 175537 | 3.1902
23 | KIA | OPTIMA | 127 | 40914 | 3.1041
24 | NISSAN | 350Z | 49 | 15831 | 3.0952
25 | NISSAN | INFINITI FX35 | 40 | 13346 | 2.9972
26 | GENERAL MOTORS | CADILLAC DTS | 140 | 47396 | 2.9538
27 | GENERAL MOTORS | CHEVROLET IMPALA | 769 | 267375 | 2.8761
28 | KIA | SPECTRA | 171 | 64591 | 2.6474
29 | KIA | RIO | 83 | 31947 | 2.5981
30 | MITSUBISHI | ECLIPSE | 107 | 42300 | 2.5296
31 | FORD MOTOR CO | FOCUS | 576 | 229738 | 2.5072
32 | GENERAL MOTORS | CHEVROLET AVEO | 166 | 67104 | 2.4738
33 | HYUNDAI | SONATA | 302 | 123439 | 2.4466
34 | VOLVO | S40 | 53 | 21905 | 2.4195
35 | HYUNDAI | ELANTRA | 192 | 80133 | 2.3960
36 | NISSAN | MAXIMA | 152 | 63601 | 2.3899
37 | BMW | M6 | 8 | 3400 | 2.3529
38 | MITSUBISHI | ENDEAVOR | 30 | 12805 | 2.3428
39 | NISSAN | SENTRA | 225 | 96584 | 2.3296
40 | FORD MOTOR CO | CROWN VICTORIA | 17 | 7424 | 2.2899
41 | CHRYSLER | JEEP LIBERTY | 209 | 91466 | 2.2850
42 | GENERAL MOTORS | CHEVROLET HHR | 223 | 99681 | 2.2371
43 | MERCEDES-BENZ | 220 (S-CLASS) | 91 | 41867 | 2.1735
44 | TOYOTA | COROLLA | 740 | 351414 | 2.1058
45 | NISSAN | INFINITI FX45 | 1 | 475 | 2.1053
46 | GENERAL MOTORS | CHEVROLET TRAILBLAZER | 257 | 122918 | 2.0908
47 | GENERAL MOTORS | BUICK LACROSSE/ALLURE | 113 | 54938 | 2.0569
48 | HUMMER | H3 | 95 | 46341 | 2.0500
49 | NISSAN | ALTIMA | 413 | 202162 | 2.0429
50 | SUZUKI | RENO | 62 | 30424 | 2.0379
51 | FORD MOTOR CO | MERCURY GRAND MARQUIS | 81 | 39757 | 2.0374
52 | JAGUAR | XK8 | 6 | 2965 | 2.0236
53 | KIA | SORENTO | 64 | 31798 | 2.0127
54 | MAZDA | 5 | 33 | 16424 | 2.0093
55 | GENERAL MOTORS | SATURN ION | 185 | 94117 | 1.9656
56 | VOLKSWAGEN | AUDI A8 | 10 | 5106 | 1.9585
57 | HYUNDAI | ACCENT | 86 | 44314 | 1.9407
58 | GENERAL MOTORS | CADILLAC CTS | 97 | 53360 | 1.8178
59 | FORD MOTOR CO | FUSION | 266 | 146464 | 1.8161
60 | NISSAN | PATHFINDER | 76 | 42137 | 1.8036
61 | HYUNDAI | AZERA | 40 | 22218 | 1.8003
62 | CHRYSLER | DODGE CARAVAN/GRAND CARAVAN | 284 | 164003 | 1.7317
63 | GENERAL MOTORS | CHEVROLET CORVETTE | 65 | 37744 | 1.7221
64 | BMW | M5 | 2 | 1163 | 1.7197
65 | VOLKSWAGEN | JETTA | 146 | 84922 | 1.7192
66 | GENERAL MOTORS | PONTIAC G6 | 54 | 32894 | 1.6416
67 | BMW | 6 | 11 | 6779 | 1.6227
68 | FORD MOTOR CO | FREESTAR VAN | 30 | 18579 | 1.6147
69 | NISSAN | INFINITI M35/M45 | 48 | 30144 | 1.5924
70 | TOYOTA | YARIS | 252 | 159292 | 1.5820
71 | HONDA | ACCORD | 664 | 421206 | 1.5764
72 | CHRYSLER | DODGE NITRO | 133 | 84441 | 1.5751
73 | MAZDA | RX-8 | 9 | 5728 | 1.5712
74 | FORD MOTOR CO | MERCURY MILAN | 55 | 35375 | 1.5548
75 | VOLKSWAGEN | AUDI A6/A6 QUATTRO/S6/S6 AVANT | 18 | 11660 | 1.5437
76 | FORD MOTOR CO | FIVE HUNDRED | 94 | 61270 | 1.5342
77 | TOYOTA | AVALON | 121 | 79137 | 1.5290
78 | NISSAN | MURANO | 137 | 92516 | 1.4808
79 | TOYOTA | HIGHLANDER | 148 | 100956 | 1.4660
80 | TOYOTA | CAMRY/SOLARA | 1003 | 685729 | 1.4627
81 | NISSAN | INFINITI G35 | 83 | 57041 | 1.4551
82 | GENERAL MOTORS | CHEVROLET UPLANDER VAN | 87 | 60061 | 1.4485
83 | GENERAL MOTORS | CADILLAC STS | 24 | 16746 | 1.4332
84 | GENERAL MOTORS | CADILLAC XLR | 2 | 1400 | 1.4286
85 | HONDA | S2000 | 7 | 4907 | 1.4265
86 | KIA | AMANTI | 6 | 4343 | 1.3815
87 | MERCEDES-BENZ | 208 (CLK-CLASS) | 19 | 13825 | 1.3743
88 | NISSAN | FRONTIER PICKUP | 87 | 64010 | 1.3592
89 | GENERAL MOTORS | CHEVROLET COLORADO PICKUP | 95 | 70012 | 1.3569
90 | GENERAL MOTORS | GMC CANYON PICKUP | 25 | 18483 | 1.3526
91 | BMW | 7 | 22 | 16421 | 1.3397
92 | TOYOTA | FJ CRUISER | 112 | 83830 | 1.3360
93 | MAZDA | 3 | 153 | 114723 | 1.3336
94 | GENERAL MOTORS | PONTIAC G5 | 107 | 80962 | 1.3216
95 | SUBARU | IMPREZA | 51 | 39198 | 1.3011
96 | VOLKSWAGEN | AUDI A4/A4 QUATTRO/S4/S4 AVANT | 64 | 49645 | 1.2892
97 | NISSAN | QUEST VAN | 47 | 36661 | 1.2820
98 | HONDA | ACURA TSX | 29 | 22669 | 1.2793
99 | KIA | SPORTAGE | 58 | 45512 | 1.2744
100 | TOYOTA | TACOMA PICKUP | 206 | 165714 | 1.2431
101 | FORD MOTOR CO | RANGER PICKUP | 94 | 77539 | 1.2123
102 | TOYOTA | 4RUNNER | 132 | 109124 | 1.2096
103 | MERCEDES-BENZ | 170 (SLK-CLASS) | 9 | 7459 | 1.2066
104 | GENERAL MOTORS | SATURN AURA | 77 | 64851 | 1.1873
105 | GENERAL MOTORS | PONTIAC TORRENT | 35 | 29918 | 1.1699
106 | HONDA | CIVIC | 389 | 332639 | 1.1694
107 | GENERAL MOTORS | CADILLAC FUNERAL COACH/HEARSE | 1 | 857 | 1.1669
108 | MITSUBISHI | OUTLANDER | 37 | 31873 | 1.1609
109 | VOLKSWAGEN | AUDI A3/A3 QUATTRO | 8 | 6992 | 1.1442
110 | VOLKSWAGEN | GOLF/RABBIT/GTI | 46 | 41314 | 1.1134
111 | GENERAL MOTORS | CHEVROLET EQUINOX | 94 | 87031 | 1.0801
112 | HYUNDAI | TIBURON | 15 | 13951 | 1.0752
113 | VOLKSWAGEN | PASSAT | 42 | 39867 | 1.0535
114 | MERCEDES-BENZ | 129 (SL-CLASS) | 8 | 7648 | 1.0460
115 | FORD MOTOR CO | MERCURY MONTEGO | 16 | 15439 | 1.0363
116 | GENERAL MOTORS | GMC ENVOY | 38 | 36989 | 1.0273
117 | HYUNDAI | TUCSON | 45 | 44033 | 1.0220
118 | HONDA | ACURA 3.2 TL | 5 | 4905 | 1.0194
119 | GENERAL MOTORS | BUICK TERRAZA VAN | 8 | 7865 | 1.0172
120 | FORD MOTOR CO | ESCAPE | 110 | 108788 | 1.0111
121 | JAGUAR | X-TYPE | 3 | 3018 | 0.9940
122 | HONDA | ACURA 3.5 RL | 49 | 49471 | 0.9905
123 | JAGUAR | VANDEN PLAS/SUPER V8 | 1 | 1010 | 0.9901
124 | SUZUKI | SX4 | 15 | 15421 | 0.9727
125 | VOLVO | S80 | 10 | 10805 | 0.9255
126 | GENERAL MOTORS | PONTIAC VIBE | 30 | 32499 | 0.9231
127 | HONDA | ELEMENT | 31 | 33688 | 0.9202
128 | MAZDA | B SERIES PICKUP | 3 | 3285 | 0.9132
129 | BMW | 5 | 47 | 51970 | 0.9044
130 | GENERAL MOTORS | SATURN SKY | 14 | 15546 | 0.9006
131 | GENERAL MOTORS | BUICK LUCERNE | 76 | 85922 | 0.8845
132 | TOYOTA | LEXUS LS | 31 | 35167 | 0.8815
133 | HONDA | ACURA RDX | 22 | 25159 | 0.8744
134 | CHRYSLER | JEEP WRANGLER | 88 | 100955 | 0.8717
135 | FORD MOTOR CO | EDGE | 105 | 121525 | 0.8640
136 | KIA | RONDO | 22 | 25524 | 0.8619
137 | TOYOTA | LEXUS RX | 82 | 98473 | 0.8327
138 | VOLKSWAGEN | EOS | 11 | 13406 | 0.8205
139 | TOYOTA | RAV4 | 145 | 181051 | 0.8009
140 | FORD MOTOR CO | FREESTYLE | 30 | 38047 | 0.7885
141 | HYUNDAI | SANTA FE | 89 | 113815 | 0.7820
142 | BMW | Z4/M | 8 | 10568 | 0.7570
143 | GENERAL MOTORS | PONTIAC SOLSTICE | 16 | 21310 | 0.7508
144 | SUZUKI | AERIO | 4 | 5544 | 0.7215
145 | PORSCHE | CAYMAN | 4 | 5552 | 0.7205
146 | PORSCHE | 911 | 9 | 12521 | 0.7188
147 | TOYOTA | LEXUS IS | 41 | 57055 | 0.7186
148 | MERCEDES-BENZ | 203 (C-CLASS) | 83 | 116282 | 0.7138
149 | BENTLEY MOTORS | CONTINENTAL | 3 | 4265 | 0.7034
150 | BMW | X3 | 22 | 31365 | 0.7014
151 | SUBARU | B9 TRIBECA | 8 | 11538 | 0.6934
152 | BMW | 3 | 97 | 139966 | 0.6930
153 | MAZDA | MAZDA CX-7 | 52 | 75137 | 0.6921
154 | VOLVO | S60 | 14 | 20268 | 0.6907
155 | CHRYSLER | JEEP PATRIOT | 20 | 29421 | 0.6798
156 | ASTON MARTIN | VANTAGE | 1 | 1474 | 0.6784
157 | KIA | SEDONA VAN | 41 | 60873 | 0.6735
158 | HONDA | FIT | 46 | 68642 | 0.6701
159 | SUBARU | LEGACY/OUTBACK | 10 | 14963 | 0.6683
160 | TOYOTA | SIENNA VAN | 63 | 96072 | 0.6558
161 | HONDA | ACURA MDX | 35 | 53550 | 0.6536
162 | FORD MOTOR CO | MERCURY MONTEREY VAN | 1 | 1553 | 0.6439
163 | FORD MOTOR CO | LINCOLN MKX | 22 | 34571 | 0.6364
164 | GENERAL MOTORS | BUICK RAINIER | 3 | 4723 | 0.6352
165 | SUBARU | OUTBACK | 27 | 42747 | 0.6316
166 | HONDA | PILOT | 77 | 122033 | 0.6310
167 | FORD MOTOR CO | LINCOLN ZEPHYR | 20 | 32952 | 0.6069
168 | JAGUAR | XKR | 3 | 5030 | 0.5964
169 | TOYOTA | LEXUS GS | 17 | 28638 | 0.5936
170 | VOLVO | V50 | 2 | 3373 | 0.5929
171 | MERCEDES-BENZ | 210 (E-CLASS) | 31 | 52557 | 0.5898
172 | MAZDA | MX-5 MIATA | 7 | 13353 | 0.5242
173 | VOLVO | XC90 | 15 | 30762 | 0.4876
174 | GENERAL MOTORS | BUICK RENDEZVOUS | 14 | 29187 | 0.4797
175 | VOLKSWAGEN | NEW BEETLE | 13 | 27249 | 0.4771
176 | HYUNDAI | VERACRUZ | 6 | 12726 | 0.4715
177 | VOLVO | XC70 | 6 | 13197 | 0.4546
178 | HONDA | CR-V | 104 | 229378 | 0.4534
179 | PORSCHE | BOXSTER | 2 | 4427 | 0.4518
180 | TOYOTA | LEXUS ES | 54 | 121577 | 0.4442
181 | SUBARU | FORESTER | 19 | 43985 | 0.4320
182 | BMW | MINI COOPER | 15 | 38511 | 0.3895
183 | JAGUAR | S-TYPE | 1 | 2582 | 0.3873
184 | TOYOTA | PRIUS | 53 | 158715 | 0.3339
185 | SAAB | 9-3 | 7 | 22401 | 0.3125
186 | HONDA | ODYSSEY VAN | 64 | 208166 | 0.3074
187 | FORD MOTOR CO | MERCURY MARINER | 6 | 20842 | 0.2879
188 | VOLVO | C70 | 1 | 5612 | 0.1782
189 | TOYOTA | LEXUS SC | 8 | 80617 | 0.0992
190 | ASTON MARTIN | DB9 | 0 | 688 | 0.0000
191 | BENTLEY MOTORS | ARNAGE | 0 | 140 | 0.0000
192 | BENTLEY MOTORS | AZURE | 0 | 184 | 0.0000
193 | FERRARI | 141 | 0 | 364 | 0.0000
194 | FERRARI | 612 SCAGLIETTI | 0 | 66 | 0.0000
195 | FERRARI | 430 | 0 | 1382 | 0.0000
196 | GENERAL MOTORS | CADILLAC LIMOUSINE | 0 | 648 | 0.0000
197 | JAGUAR | XJ8/XJ8L | 0 | 1645 | 0.0000
198 | JAGUAR | XJR | 0 | 221 | 0.0000
199 | LAMBORGHINI | MURCIELAGO | 0 | 164 | 0.0000
200 | LAMBORGHINI | GALLARDO | 0 | 558 | 0.0000
201 | MASERATI | QUATTROPORTE | 0 | 2176 | 0.0000
202 | SAAB | 9-5 | 0 | 4084 | 0.0000
203 | SPYKER | C8 | 0 | 7 | 0.0000
204 | VOLVO | V70 | 0 | 3899 | 0.0000

Issued on: June 4, 2009.
Stephen R. Kratzke,
Associate Administrator for Rulemaking.

[FR Doc. E9-13530 Filed 6-9-09; 8:45 am]

BILLING CODE 4910-59-P